ENVIRONMENTAL PROTECTION AGENCY

40 CFR Part 52

[EPA-R03-OAR-2018-0042; FRL-10011-05-Region 3]

Air Plan Disapproval; Maryland; Interstate Transport Requirements for the 2010 1-Hour Sulfur Dioxide National Ambient Air Quality Standard; Withdrawal

AGENCY: Environmental Protection Agency (EPA).

ACTION: Proposed rule; withdrawal.

SUMMARY: The Environmental Protection Agency (EPA) is withdrawing its proposed action disapproving the interstate transport portion of the state implementation plan (SIP) revision submitted by the State of Maryland (Maryland) to address the infrastructure requirements of the 2010 primary sulfur dioxide (SO2) national ambient air quality standard (NAAQS). EPA proposed disapproval of the interstate transport element of the SIP because it did not contain provisions prohibiting emissions from Maryland that were contributing significantly to or interfering with maintenance of the 2010 SO2 NAAQS in another state. This action is being taken under the Clean Air Act (CAA).

DATES: The proposed rule, published on April 22, 2020 (85 FR 22381), proposing disapproval of the transport portion of Maryland's August 17, 2016 SIP submission for the 2010 SO2 NAAQS, is withdrawn as of June 30, 2020.

FOR FURTHER INFORMATION CONTACT: Marilyn Powers, Planning & Implementation Branch (3AD30), Air & Radiation Division, U.S. Environmental Protection Agency, Region III, 1650 Arch Street, Philadelphia, Pennsylvania 19103. The telephone number is (215) 814-2308. Ms. Powers can also be reached via electronic mail at powers.marilyn@epa.gov.

SUPPLEMENTARY INFORMATION: On August 17, 2016, the Maryland Department of the Environment (MDE), on behalf of the State of Maryland, submitted a SIP revision to EPA to address all of the then applicable CAA section 110(a)(2) requirements for the 2010 SO2 NAAQS. On June 16, 2020, EPA approved this 2016 SIP submittal, known as an infrastructure SIP, except for certain elements related to nonattainment area requirements and the portion dealing with interstate transport of pollution (section 110(a)(2)(D)(i)(I)). 85 FR 36343. In the final rulemaking, EPA noted that it would take action on the interstate transport portion (110(a)(2)(D(i)(I)) at a later date. On April 22, 2020 (85 FR 22381), EPA proposed to disapprove the interstate transport portion of Maryland's SO2 infrastructure SIP submission because that portion did not contain adequate provisions prohibiting SO2 emissions from stationary sources in Maryland which were contributing significantly to nonattainment with, or interfering with maintenance of, the 2010 SO2 NAAQS in another state. Specifically, EPA identified the Verso Luke Paper Mill (Luke) as the source contributing to violations of the SO2 NAAQS in West Virginia, based on ambient monitoring data from 2017 to 2019.

Following publication of the proposed disapproval, EPA received from MDE, on May 8, 2020, a letter from Verso, the owner of the Luke facility, surrendering all of its CAA operating permits for the facility. The Verso letter is in the docket for this rulemaking action. The Luke facility had been shut down by Verso on June 30, 2019, and the surrender of its CAA permits means that the facility cannot return to operation without obtaining new CAA permits from Maryland. On this basis, EPA is withdrawing its April 22, 2020 proposed disapproval of the CAA section 110(a)(2)(D)(i)(I) interstate transport portion of Maryland's August 17, 2016 SIP submittal for the 2010 SO2 NAAQS. EPA will consider this new information and publish a new proposal providing another opportunity for notice and comment after analyzing this recent development. Please note that EPA is not accepting comments on this withdrawal of the April 22, 2020 proposed disapproval. Any comments received on the proposed disapproval will be placed into any new docket related to a future action on the section 110(a)(2)(D)(i)(I) element of the SO2 infrastructure SIP but will not be answered as part of this action.

List of Subjects in 40 CFR Part 52

Environmental protection, Air pollution control, Incorporation by reference, Sulfur oxides.

Dated: June 18, 2020.
Cosmo Servidio,
Regional Administrator, Region III.

[FR Doc. 2020-13584 Filed 6-29-20; 8:45 am]

BILLING CODE 6560-50-P